DEPARTMENT OF COMMERCE

Bureau of Economic Analysis

[Docket No. 130114042-3042-01]

XRIN 0691-XC009

BE-185: Quarterly Survey of Financial Services Transactions Between U.S. Financial Services Providers and Foreign Persons

AGENCY: Bureau of Economic Analysis, Commerce.

ACTION: Notice of reporting requirements.

SUMMARY: By this Notice, the Bureau of Economic Analysis (BEA), Department of Commerce, is informing the public that it is conducting the mandatory survey titled Quarterly Survey of Financial Services Transactions between U.S. Financial Services Providers and Foreign Persons (BE-185). This mandatory survey is conducted under the authority of the International Investment and Trade in Services Survey Act (22 U.S.C. 3101-3108, as amended) and by Section 5408 of the Omnibus Trade and Competitiveness Act of 1988 (15 U.S.C. 4908(b)).

SUPPLEMENTARY INFORMATION: This Notice constitutes legal notification to all United States persons (defined below) who meet the reporting requirements set forth in this Notice that they must respond to, and comply with, the survey. Reports are due 45 days after the end of the U.S. person's fiscal quarter, except for the final quarter of the U.S. person's fiscal year when reports must be filed within 90 days. The BE-185 survey forms and instructions are available on the BEA Web site at www.bea.gov/surveys/iussurv.htm.

Definitions

(a) Person means any individual, branch, partnership, associated group, association, estate, trust, corporation, or other organization (whether or not organized under the laws of any State), and any government (including a foreign government, the United States Government, a State or local government, and any agency, corporation, financial institution, or other entity or instrumentality thereof, including a government-sponsored agency).

(b) United States person means any person resident in the United States or subject to the jurisdiction of the United States.

(c) Foreign person means any person resident outside the United States or subject to the jurisdiction of a country other than the United States.

Who Must Report: Reports are required from each U.S. person who: (a) Had sales of covered financial services to foreign persons that exceeded $20 million for the previous fiscal year or are expected to exceed that amount during the current fiscal year, or (b) had purchases of covered financial services from foreign persons that exceeded $15 million for the previous fiscal year or are expected to exceed that amount during the current fiscal year. Because the thresholds are applied separately to sales and purchases, the reporting requirements may apply only to sales, only to purchases, or to both sales and purchases. Entities required to report will be contacted individually by the Bureau of Economic Analysis (BEA). Entities not contacted by BEA have no reporting responsibilities.

What To Report: The survey is intended to collect information on transactions in the covered financial services between U.S. financial services providers and foreign persons.

How To Report: Reports can be filed via BEA's electronic reporting system at www.bea.gov/efile. Additionally, copies of the survey forms and instructions, which contain complete information on reporting procedures and definitions, can be obtained from the BEA Web site given above in the Summary. Inquiries can be made to BEA at (202) 606-5588.

When To Report: Reports are due to BEA 45 days after the end of the fiscal quarter, except for the final quarter of the reporter's fiscal year when reports must be filed within 90 days.

Paperwork Reduction Act Notice: This data collection has been approved by the Office of Management and Budget (OMB) in accordance with the Paperwork Reduction Act and assigned control number 0608-0065. An agency may not conduct or sponsor, and a person is not required to respond to, a collection of information unless it displays a valid control number assigned by OMB. The estimated average annual public reporting burden for this collection of information is 10 hours per response. Send comments for this burden estimate to Director, Bureau of Economic Analysis (BE-1), U.S. Department of Commerce, Washington, DC 20230; and to the Office of Management and Budget, Paperwork Reduction Project 0608-0012, Washington DC 20503.

J. Steven Landefeld,
Director, Bureau of Economic Analysis.

[FR Doc. 2013-01354 Filed 1-23-13; 8:45 am]

BILLING CODE 3510-06-P